NATIONAL FOUNDATION ON THE ARTS AND THE HUMANITIES

National Endowment for the Humanities; Meetings of Humanities Panel

AGENCY: National Endowment for the Humanities, National Foundation on the Arts and the Humanities.

ACTION: Notice of meetings.

SUMMARY: Pursuant to the provisions of the Federal Advisory Committee Act (Public Law 92-463, as amended), notice is hereby given that the following meetings of the Humanities Panel will be held at the Old Post Office, 1100 Pennsylvania Avenue, NW., Washington, DC 20506.

FOR FURTHER INFORMATION CONTACT: Heather Gottry, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: August 1, 2002.

Time: 8:30 a.m. to 5:30 p.m.

Room: 415.

Program: This meeting will review applications for Research Libraries, Associations, and Institutions, submitted to the Office of Challenge Grants at the May 1, 2002 deadline.

2. Date: August 1, 2002.

Time: 9:00 a.m. to 5:00 p.m.

Room: 315.

Program: This meeting will review applications for Fellowships Program in Asian Studies, submitted to the Division of Research Programs at the May 1, 2002 deadline.

3. Date: August 2, 2002.

Time: 9:00 a.m. to 5:00 p.m.

Room: 315.

Program: This meeting will review applications for Fellowships Program in British Literature I, submitted to the Division of Research Programs at the May 1, 2002 deadline.

4. Date: August 5, 2002.

Time: 8:30 a.m. to 5:30 p.m.

Room: 315.

Program: This meeting will review applications for Fellowships Program in Philosophy, submitted to the Division of Research Programs at the May 1, 2002 deadline.

5. Date: August 5, 2002.

Time: 8:30 a.m. to 5:00 p.m.

Room: 415.

Program: This meeting will review applications for Fellowships Program in British Literature II, submitted to the Division of Research Programs at the May 1, 2002 deadline.

6. Date: August 6, 2002.

Time: 9:00 a.m. to 5:00 p.m.

Room: 315.

Program: This meeting will review applications for Fellowships Program in Political Science, Economics, Geography, and Sociology, submitted to the Division of Research Programs at the May 1, 2002 deadline.

7. Date: August 7, 2002.

Time: 8:30 a.m. to 5:00 p.m.

Room: 315.

Program: This meeting will review applications for Fellowships Program in Romance Languages and Literatures, submitted to the Division of Research Programs at the May 1, 2002 deadline.

8. Date: August 9, 2002.

Time: 8:30 a.m. to 5:00 p.m.

Room: M-07.

Program: This meeting will review applications for Fellowships Program in Comparative Literature and Theater, submitted to the Division of Research Programs at the May 1, 2002 deadline.

9. Date: August 9, 2002.

Time: 8:30 a.m. to 5:00 p.m.

Room: 315.

Program: This meeting will review applications for Fellowships Program in American Studies, submitted to the Division of Research Programs at the May 1, 2002 deadline.

10. Date: August 12, 2002.

Time: 8:30 a.m. to 5:00 p.m.

Room: 315.

Program: This meeting will review applications for Fellowships Program in Anthropology and Archaeology, submitted to the Division of Research Programs at the May 1, 2002 deadline.

11. Date: August 13, 2002.

Time: 9:00 a.m. to 5:00 p.m.

Room: M-07.

Program: This meeting will review applications for Fellowships Program in Latin American Studies, submitted to the Division of Research Programs at the May 1, 2002 deadline.

12. Date: August 13, 2002.

Time: 8:30 a.m. to 5:00 p.m.

Room: 315.

Program: This meeting will review applications for Fellowships Program in History of Art, Architecture, and Archaeology I, submitted to the Division of Research Programs at the May 1, 2002 deadline.

13. Date: August 14, 2002.

Time: 8:30 a.m. to 5:00 p.m.

Room: 315.

Program: This meeting will review applications for Fellowships Program in Classical, Medieval, and Renaissance Studies, submitted to the Division of Research Programs at the May 1, 2002 deadline.

14. Date: August 15, 2002.

Time: 8:30 a.m. to 5:00 p.m.

Room: 315.

Program: This meeting will review applications for Fellowships Program in African and Near Eastern Studies, submitted to the Division of Research Programs at the May 1, 2002 deadline.

15. Date: August 19, 2002.

Time: 8:30 a.m. to 5:00 p.m.

Room: 315.

Program: This meeting will review applications for Fellowships Program in Germanic and Slavic Languages and Literatures, Literary Criticism, and Linguistics, submitted to the Division of Research Programs at the May 1, 2002 deadline.

16. Date: August 20, 2002.

Time: 8:30 a.m. to 5:00 p.m.

Room: 315.

Program: This meeting will review applications for Fellowships Program in Film, Communication, Rhetoric, and Media, submitted to the Division of Research Programs at the May 1, 2002 deadline.

17. Date: August 21, 2002.

Time: 8:30 a.m. to 5:00 p.m.

Room: 315.

Program: This meeting will review applications for Fellowships Program in History of Art and Architecture II, submitted to the Division of Research Programs at the May 1, 2002 deadline.

18. Date: August 22, 2002.

Time: 8:30 a.m. to 5:00 p.m.

Room: 315.

Program: This meeting will review applications for Fellowships Program in European History II, submitted to the Division of Research Programs at the May 1, 2002 deadline.

Heather Gottry,
Acting Advisory Committee Management Officer.

[FR Doc. 02-19571 Filed 8-1-02; 8:45 am]

BILLING CODE 7536-01-P